SECURITIES AND EXCHANGE COMMISSION

Sunshine Act Meeting Federal Register Citation of Previous Announcement: November 5, 2007

Status: Closed meeting.

Place: 100 F Street, NE., Washington, DC.

Date and Time of previously Announced meeting: November 8, 2007 at 2 p.m.

Change in the Meetings: Date and Time Change.

The Closed Meeting scheduled for Thursday, November 8, 2007 at 2 p.m., has been changed to Wednesday, November 7, 2007 at 2:30 p.m.

At times, changes in Commission priorities require alterations in the scheduling of meeting items. For further information and to ascertain what, if any, matters have been added, deleted or postponed, please contact:

The Office of the Secretary at (202) 551-5400.

November 1, 2007.
Florence E. Harmon,
Deputy Secretary.

[FR Doc. E7-21772 Filed 11-5-07; 8:45 am]

BILLING CODE 8011-01-P